POSTAL SERVICE

39 CFR Part 111

First-Class Package Service

AGENCY: Postal Service™.

ACTION: Final rule.

SUMMARY: The Postal Service is revising Mailing Standards of the United States Postal Service, Domestic Mail Manual (DMM®), 401, 402, 433, 434, 435, 436, 503, 507, 602, and 705 to introduce a new competitive product called First-Class Package Service, which will replace and remove First-Class Mail® commercial base and commercial plus parcels from the market-dominant product offering. First-Class Mail retail single-piece parcels remain a market-dominant product offering.

DATES: Effective Date: October 3, 2011.

FOR FURTHER INFORMATION CONTACT: Markes Lucius at 202-268-6140 or Bill Chatfield at 202-268-7278.

SUPPLEMENTARY INFORMATION: On February 24, 2011, the Postal Service filed a notice with the Postal Regulatory Commission to institute a new competitive product, then tentatively called “Lightweight Commercial Parcels,” and to remove First-Class Mail commercial base and commercial plus parcels from the market-dominant product offerings. The Commission completed its review on April 6, 2011.

In this final rule, the Postal Service provides a description of the conditions for eligibility for the new competitive product, now called First-Class Package Service. First-Class Package Service parcels will receive the same service as First-Class Mail, however, parcels mailed at commercial base prices may not contain any content that meets the definition of ‘letter’ in 39 CFR 310.1 (for example, no personal correspondence is permitted). First-Class Package Service parcels mailed at commercial plus prices have no content restrictions, other than the generic restrictions on nonmailable matter.

Effective Dates and More Information

The Postal Service will begin to account for any First-Class Mail commercial base or commercial plus priced parcels as the competitive First-Class Package Service product on October 1, 2011. Mailers will retain the option to mail eligible items weighing 13 ounces or less at retail First-Class Mail single-piece parcel prices.

Mailers may begin using the new labeling and marking methods outlined in this final rule as of October 3, 2011, but will not be required to do so until May 2012.

The Postal Service adopts the following changes to Mailing Standards of the United States Postal Service, Domestic Mail Manual (DMM), which is incorporated by reference in the Code of Federal Regulations. See 39 CFR 111.1.

List of Subjects in 39 CFR Part 111

Administrative practice and procedure, Postal Service.

Accordingly, 39 CFR Part 111 is amended as follows:

PART 111—[AMENDED]

1. The authority citation for 39 CFR Part 111 is revised to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

Mailing Standards of the United States Postal Service, Domestic Mail Manual (DMM)

* * * * *

400 Commercial Parcels

401 Physical Standards

1.0 Physical Standards for Parcels

* * * * *

1.3 Maximum Weight and Size

[Revise the second sentence of 1.3 as follows:]

* * * Lower weight limits apply to parcels mailed at Priority Mail commercial plus cubic, Regional Rate Box, First-Class Package Service, Standard Mail, Parcel Select Regional Ground, and Bound Printed Matter prices. * * *

* * * * *

2.0 Additional Physical Standards by Class of Mail

* * * * *

[Revise the title of 2.3 as follows:]

2.3 First-Class Package Service Parcels

2.3.1 Weight

[Revise the text of 2.3.1 as follows:]

First-Class Package Service parcels cannot exceed 13 ounces, except for commercial plus parcels, which may exceed 13 ounces but must weigh less than 16 ounces.

2.3.2 Additional Physical Standards

[Revise the second sentence of the introductory text of 2.3.2 as follows:]

* * * First-Class Package Service parcels are eligible for Delivery Confirmation and Signature Confirmation services. A First-Class Package Service parcel is:

* * * * *

402 Elements on the Face of a Mailpiece

* * * * *

2.0 Placement and Content of Markings

* * * * *

[Revise the heading of 2.4 as follows:]

2.4 First-Class Package Service Markings

2.4.1 Placement and Content

Markings must be placed as follows:

[Revise the second sentence of item 2.4.1a as follows:]

a. * * * The basic required marking “Presorted (or “PRSRT”) First-Class Package” (or “PKG”) must be printed as part of; directly below; or to the left of the postage on presorted parcels. * * *

* * * * *

[Revise the second sentence of item 2.4.1b as follows:]

b. * * * In addition to the basic marking in 2.4.1a, First-Class Package Service parcels claiming commercial parcel prices must be marked as follows in a prominent location on the address side of the parcel:

[Revise items 2.4.1b1 and b2 as follows:]

1. Except for parcels with permit imprint postage, parcels claiming commercial base prices must be marked “Commercial Base Price” or “ComBasPrice.”

2. All parcels claiming commercial plus prices must be marked “Commercial Plus Price” or “ComPlsPrice.”

* * * * *

430 First-Class Package Service

433 Prices and Eligibility

[Revise the title of 1.0 as follows:]

1.0 Prices and Fees for First-Class Package Service

1.1 Price Application

[Add a new last sentence to item 1.1 as follows:]

* * * All prices and fees can be found in Notice 123-Price List.

* * * * *

[Revise the title and text of 1.2 as follows:]

1.2 Price Determination for First-Class Package Service Parcels

First-Class Package Service commercial base prices are the same price for the first three ounces, with additional prices per additional ounce or fraction thereof; any fraction of an ounce after the first three ounces is considered a whole ounce. The minimum postage per addressed piece is that for a piece weighing 3 ounces. First-Class Package Service commercial plus prices are not based on ounce increments but are flat rate prices at each sortation level for parcels weighing less than 16 ounces.

1.3 Commercial Base Parcel Prices

[Revise the text of 1.3 as follows:]

First-Class Package Service presorted parcels no more than 13 ounces in weight are eligible for commercial base prices. Nonpresorted First-Class Package Service parcels no more than 13 ounces in weight mailed under the following conditions are eligible for single-piece commercial base prices:

a. The residual portion of a presorted mailing prepared under 435.4.0.

b. Nonpresorted mailings paid by permit imprint, IBI meter, or PC Postage.

c. See 402.2.4 for marking requirements.

1.4 Commercial Plus Prices

[Revise the text of 1.4 as follows:]

First-Class Package Service machinable parcels less than 16 ounces and Merchandise Return Service parcels are eligible for commercial plus prices for customers that:

a. Establish a customer commitment agreement with the Postal Service to mail more than 5,000 First-Class Package Service machinable parcels (including those parcels returned using Merchandise Return Service) at commercial plus prices in a calendar year. Customers may contact their account manager or the manager, Shipping Support (see 608.8.0 for address) for additional information.

b. Pay for postage by using a permit imprint.

c. Enter a minimum of 500 pieces of mail for each presorted mailing, or a minimum of 200 pieces or 50 pounds of mail for each single-piece mailing, or receive parcels returned using Merchandise Return Services.

d. Use the Electronic Verification System (eVS) or submit an electronic postage statement with a computerized manifest.

e. Mark parcels under 402.2.4.

* * * * *

1.6 Presort Mailing Fee

[Revise the text of 1.6 as follows:]

Payment of a presort mailing fee is required once each 12-month period at each office of mailing by any person or organization entering mailings at automation or Presorted First-Class Mail or any First-Class Package Service prices. Payment of one fee allows a mailer to enter mail at all those prices. Persons or organizations paying this fee may enter mail of their clients as well as their own mail. The fee may be paid in advance only for the next 12 months and only during the last 60 days of the current service period. The fee charged is that which is in effect on the date of payment.

[Revise the title and text of 1.7 as follows:]

1.7 Computing Postage for First-Class Package Service

Affix postage to each piece or, for permit imprint mailings, multiply the number of pieces at each price increment by the corresponding postage price, add the unrounded products (amounts), and round off the total postage to the nearest whole cent.

* * * * *

[Revise the title of 2.0 as follows:]

2.0 Content Standards for First-Class Package Service Parcels

2.1 General

[Revise the text of 2.1 as follows:]

With the exception of restricted material described in 601.8.0, any mailable item may be mailed at First-Class Package Service commercial plus prices. Parcels mailed at First-Class Package Service commercial base prices are not sealed against inspection and may not contain documents or personal correspondence, except that such parcels may contain invoices, receipts, incidental advertising, and other documents that relate in all substantial respects to merchandise contained in the parcels.

[Revise the title and text of 2.2 as follows:]

2.2 Matter Required To Be Mailed as First-Class Mail

See 133.3.0 for a detailed description of matter required to be mailed as First-Class Mail (or Express Mail or Priority Mail). The following types of contents must be mailed as First-Class Mail (or Express Mail or Priority Mail):

a. Bills and statements of account.

b. Personal information.

c. Handwritten and typewritten material.

[Delete items 2.3 through 2.5 in their entirety and renumber current 2.6 as new 2.3 and revise the title and text as follows:]

2.3 Restricted Air Transportation

All First-Class Package Service parcels are subject to limitations for air transportation. See 601.10.0 for restrictions on air transportation.

[Revise the title of 3.0 as follows:]

3.0 Basic Standards for First-Class Package Service Parcels

3.1 Description of Service

[Revise the text of 3.1 as follows:]

First-Class Package Service parcels receive expeditious handling and transportation.

3.2 Defining Characteristics

3.2.1 Inspection of Contents

[Revise the text of 3.2.1 as follows:]

Parcels mailed at First-Class Package Service commercial plus prices are closed against postal inspection. Federal law and USPS regulations restrict both opening and reviewing the contents of First-Class Package Service commercial plus parcels by anyone other than the addressee.

[Revise the title and text of 3.2.2 as follows:]

3.2.2 Forwarding and Return Services

The postage price of First-Class Package Service parcels includes forwarding service to a new address for up to 12 months and return of undeliverable parcels to the sender.

[Delete current 3.2.3, Return Service, in its entirety and renumber current 3.2.4 as new 3.2.3 and revise as follows:]

3.2.3 Extra Services for First-Class Package Service Parcels

Extra services available for First-Class Package Service parcels are certificate of mailing service, Certified Mail service, COD service, Delivery Confirmation service, insured mail service (merchandise only), Registered Mail service, return receipt service, restricted delivery service, Signature Confirmation service, and special handling. See information regarding extra services in 503. See 508.7.0 for details about Hold for Pickup service.

[Delete current 3.2.5 and 3.2.6 in their entirety.]

[Revise the heading of 3.3 as follows:]

3.3 Additional Basic Standards for First-Class Package Service Parcels

All presorted First-Class Package Service parcels must:

[Delete current items 3.3a through 3.3e in their entirety; and replace as follows:]

a. Meet the applicable postage payment standards in 434 and 604.7.0.

b. Bear a delivery address that includes the correct ZIP Code or ZIP+4 code and that meets the address quality standards in 3.4 and 3.5.

[Delete 3.4, Presort Mailing Fee, in its entirety and renumber current 3.5 through 3.6 as new 3.4 through 3.5.]

* * * * *

[Revise the title of 4.0 as follows:]

4.0 Price Eligibility for Presorted First-Class Package Service Parcels

* * * * *

434 Postage Payment and Documentation

1.0 Basic Standards for Postage Payment

1.1 Postage Payment Options

[Revise the first sentence of 1.1 and add a new second sentence as follows:]

Postage for First-Class Package Service parcels must be paid with affixed postage or permit imprint as specified below. Parcels mailed at commercial plus prices must be mailed with permit imprint postage.* * *

[Revise the title of 2.0 as follows:]

2.0 Postage Payment for Presorted First-Class Package Service Parcels

2.1 Permit Imprint Postage

[Revise the first sentence of 2.1 as follows:]

All First-Class Package Service parcels may bear permit imprint postage under 604.5.0. * * *

* * * * *

[Revise the title and text of 2.2 as follows:]

2.2 Affixed Postage for First-Class Package Service Parcels

Each First-Class Package Service parcel bearing affixed postage (not allowed for commercial plus parcels) must bear the full postage at the First-Class Package Service price for which it qualifies.

* * * * *

3.0 Mailing Documentation

* * * * *

3.2 Basic Documentation Standards

[Revise the text of 3.2 as follows:]

Supporting documentation (see 708.1.0) of postage is required for each mailing except for eVS mailings under 705.2.9, or unless the correct price is affixed to each piece or each piece is of identical weight and the pieces are separated by price when presented for acceptance.

* * * * *

[Delete current 3.5, Standard Format for Documentation, in its entirety (standards are in 708.1.0 referred to above) and renumber current 3.6 through 3.8 as new 3.5 through 3.7.]

* * * * *

435 Mail Preparation

1.0 General Information for Mail Preparation

* * * * *

1.3 Terms for Presort Levels

Terms used for presort levels are defined as follows:

[Revise the introductory line in 1.3a as follows:]

a. 5-digit scheme for First-Class Package Service parcels: * * *

* * * * *

3.0 Sack Labels

* * * * *

3.3 Line 2 (Content Line)

Line 2 (content line) must meet these standards:

* * * * *

[Revise 3.3b as follows:]

b. Codes: The codes shown below must be used as appropriate on Line 2 of sack labels. See 708.6.

[Revise the second row in the table in 3.3 and add a new third row as follows:]

Content type | Code
* * * * *
First-Class Package Service | FC.
Parcels | PARCELS.
* * * * *

* * * * *

[Revise the title of 4.0 as follows:]

4.0 Preparing Parcels

4.1 Basic Standards

[Revise the text of 4.1 as follows:]

Each Presorted First-Class Package Service mailing must be prepared in USPS-approved sacks and each parcel marked “Presorted” (or “PRSRT”) and “First-Class Package Service.” All parcels must be sorted together and prepared under 4.3 and 4.4.

[Revise the title and text of 4.2 as follows:]

4.2 Single-Piece Mail

Single-piece (nonpresorted) First-Class Package Service parcels may be presented as a separate mailing or with a presorted mailing and reported on the same postage statement as follows:

a. The single-piece mail must be physically separated from other pieces.

b. The single-piece mail must bear no presorted price marking, or must be marked with the correction marking: “Single-Piece” or “SNGLP” under 402.2.4.

* * * * *

4.4 Sacking and Labeling

Preparation sequence, sack size, and labeling:

[Revise item 4.4a2 by changing “FCM” to “FC” as follows:]

a. * * * labeling:

* * * * *

2. Line 2: For 5-digit scheme sacks, “FC PARCELS 5D SCH.” For 5-digit sacks, “FC PARCELS 5D.”

[Revise item 4.4b2 by changing “FCM” to “FC” as follows:]

b. * * * labeling:

* * * * *

2. Line 2: “FC PARCELS 3D.”

[Revise item 4.4c2 by changing “FCM” to “FC” as follows:]

c. * * * labeling:

* * * * *

2. Line 2: “FC PARCELS ADC.”

[Revise item 4.4d2 by changing “FCM” to “FC” as follows:]

d. * * * labeling:

* * * * *

2. Line 2: “FC PARCELS WKG.”

* * * * *

436 Enter and Deposit

1.0 Deposit

[Delete 1.1, Service Objective, in its entirety (stated in 433), and renumber current 1.2 through 1.4 as new 1.1 through 1.3.]

1.1 Time and Location of Deposit

[Revise the text of renumbered 1.1 as follows:]

First-Class Package Service parcels must be deposited at locations and times designated by the postmaster. Metered mail must be deposited in locations under the jurisdiction of the licensing Post Office except under 604.4.5.3. Permit imprint mail must be deposited under 604.5.0 and 705.

1.2 Approved Collections

[Revise the introductory text of renumbered 1.2 as follows:]

The USPS may collect First-Class Package Service parcels at a mailer's facility if part of an approved collection service for other classes of mail; space is available on the transportation; and:

* * * * *

2.0 Verification

2.1 USPS Verification and Mailer Correction

[Revise the text of 2.1 as follows:]

Mailings are subject to USPS procedures to verify correct preparation and postage payment. If, at the acceptance unit, a mailing is found not to qualify for a First-Class Package Service presort price, the mailer must take corrective action or pay a single-piece price (see 2.3). The return of mailings to the mailer's facility for reworking is the mailer's responsibility.

* * * * *

2.3 Payment at Single-Piece Price Rather Than Correcting Errors

[Revise the text of 2.3 as follows:]

A mailer who pays a single-piece First-Class Package Service price rather than correcting presorting errors in a mailing paid with meter or precanceled stamps must either affix metered postage for the additional amount on each piece or pay the difference in cash (or by check) and present the receipt to the acceptance point before the mail may be released for processing. A mailer who makes the same choice for a permit imprint mailing must correct the postage statement to show the higher price.

* * * * *

500 Additional Mailing Services

503 Extra Services

* * * * *

2.0 Registered Mail

* * * * *

2.2 Basic Information About Registered Mail

* * * * *

2.2.2 Eligible Matter

[Revise the first sentence of 2.2.2 as follows:]

Only mailable matter prepaid with postage at the First-Class Mail, First-Class Package Service, or Priority Mail (excluding Critical Mail) prices may be sent as Registered Mail. * * *

* * * * *

3.0 Certified Mail

* * * * *

3.2 Basic Information

* * * * *

3.2.2 Eligible Matter

[Revise the text of 3.2.2 as follows:]

Only mailable matter prepaid with postage at the First-Class Mail, First-Class Package Service, or Priority Mail (excluding Critical Mail) prices may be sent as Certified Mail.

* * * * *

4.0 Insured Mail

* * * * *

4.2 Basic Information

* * * * *

4.2.2 Eligible Matter

The following types of mail may be insured:

[Revise the text of item 4.2.2a as follows:]

a. First-Class Mail, First-Class Package Service and Priority Mail (including Critical Mail), if it contains matter that is eligible to be mailed at Standard Mail or Package Services prices.

* * * * *

4.3 Mailing

* * * * *

4.3.5 Integrated Barcodes

The following options are available for mailers who print their own labels:

* * * * *

[Revise the first sentence of 4.3.5c as follows:]

c. Mailers must use an integrated barcode (see Exhibit 4.3.5c) when insurance is purchased online for Priority Mail and for parcels mailed at First-Class Mail, First-Class Package Service, Media Mail, Parcel Post, or Parcel Select prices. * * *

* * * * *

5.0 Certificate of Mailing

5.1 Certificate of Mailing Fees

[Revise the second sentence of 5.1 as follows:]

* * * The correct fee must be paid in addition to postage for mailings of identical pieces of First-Class Mail, First-Class Package Service (except for parcels mailed at commercial plus prices), Priority Mail (excluding Critical Mail), and Package Services. * * *

* * * * *

5.2 Basic Information

* * * * *

5.2.4 Eligible Matter—Bulk Quantities

[Revise the second sentence of 5.2.4 as follows:]

* * * This certificate is provided only for a mailing of identical pieces of First-Class Mail, First-Class Package Service (except for parcels mailed at commercial plus prices), Priority Mail (excluding Critical Mail), Standard Mail, and Package Services. * * *

* * * * *

6.0 Return Receipt

* * * * *

6.2 Basic Information

* * * * *

6.2.2 Eligible Matter

Return receipt service is available for:

* * * * *

[Revise the text of 6.2.2b as follows:]

b. First-Class Mail, First-Class Package Service, and Priority Mail (excluding Critical Mail) when purchased at the time of mailing with Certified Mail, COD, insured mail (for more than $200.00), or Registered Mail service.

* * * * *

7.0 Restricted Delivery

* * * * *

7.2 Basic Information

* * * * *

7.2.2 Eligible Matter

Restricted Delivery service is available for:

[Revise the text of 7.2.2a as follows:]

a. First-Class Mail, First-Class Package Service, and Priority Mail (excluding Critical Mail) when purchased at the time of mailing with Certified Mail, COD, insured mail (for more than $200.00), or Registered Mail service.

* * * * *

10.0 Delivery Confirmation

* * * * *

10.2 Basic Information

* * * * *

10.2.2 Eligible Matter

[Revise the first sentence of 10.2.2 as follows:]

Delivery Confirmation is available for First-Class Mail parcels and First-Class Package Service parcels; all Priority Mail pieces; Standard Mail Not Flat-Machinable pieces and machinable or irregular parcels (electronic option only); Package Services, Parcel Select, and Parcel Select Regional Ground parcels (electronic option only) under 401.1.0. * * *

* * * * *

11.0 Signature Confirmation

* * * * *

11.2 Basic Information

* * * * *

11.2.2 Eligible Matter

[Revise the first sentence of 11.2.2 as follows:]

Signature Confirmation is available for First-Class Mail parcels and First-Class Package Service parcels; all Priority Mail pieces; Standard Mail Not Flat-Machinable pieces and machinable or irregular parcels (electronic option only); Package Services, Parcel Select, and Parcel Select Regional Ground parcels (electronic option only) under 401.1.0. * * *

* * * * *

12.0 Collect on Delivery (COD)

* * * * *

12.2 Basic Information

* * * * *

12.2.2 Eligible Matter

[Revise the introductory sentence of 12.2.2 as follows:]

COD service may be used for Express Mail, First-Class Mail, First-Class Package Service, Priority Mail (excluding Critical Mail), and any Package Services or Parcel Select sub-category if:

* * * * *

12.2.4 Registered COD Mail

[Revise the first sentence of 12.2.4 as follows:]

Sealed domestic mail of any class bearing First-Class Mail or First-Class Package Service postage may be sent as registered COD mail. * * *

* * * * *

13.0 Special Handling

* * * * *

13.2 Basic Information

* * * * *

13.2.2 Availability

[Revise the text of 13.2.2 as follows:]

Special handling service is available only for First-Class Mail, First-Class Package Service, Priority Mail (excluding Critical Mail), Package Services, and Parcel Select pieces.

* * * * *

13.2.4 Bees and Poultry

[Revise the text of 13.2.4 as follows:]

Unless sent at First-Class Mail, First-Class Package Service, or Priority Mail prices, special handling is required for parcels containing honeybees or baby poultry.

* * * * *

507 Mailer Services

1.0 Treatment of Mail

* * * * *

1.4 Basic Treatment

* * * * *

1.4.5 Extra Services

Mail with extra services is treated according to the charts for each class of mail in 1.5, except that:

* * * * *

[Revise the text of 1.4.5b as follows:]

b. All insured First-Class Mail. First-Class Package Service and Priority Mail pieces are forwarded and returned at no additional charge. All insured Standard Mail, Package Services, and Parcel Select pieces are forwarded or returned.

* * * * *

1.5 Treatment for Ancillary Services by Class of Mail

[Revise the title and the introductory text of 1.5.1 as follows:]

1.5.1 First-Class Mail, First-Class Package Service, and Priority Mail

Undeliverable-as-addressed First-Class Mail (including postcards), First-Class Package Service, and Priority Mail pieces are treated under Exhibit 1.5.1, with these additional conditions:

* * * * *

[Revise the text of 1.5.1d as follows:]

d. First-Class Mail, First-Class Package Service or Priority Mail pieces bearing Standard Mail markings and endorsements under 202 and 244.5.1 for letters, 302 and 344.5.1 for flats, and 402 and 444.4.1 for parcels receives forwarding, return, and address correction services for Standard Mail under 1.5.3.

e. “Change Service Requested” is not permitted for the following:

* * * * *

[Revise the text of items 1.5.1e2 and e3 as follows:]

2. First-Class Mail, First-Class Package Service, or Priority Mail pieces containing hazardous materials under 601.10.0.

3. First-Class Mail, First-Class Package Service or Priority Mail pieces with an extra service other than Delivery Confirmation or Signature Confirmation.

[Revise the introductory text of 1.5.1f as follows:]

f. Address Change Service under 4.0 is available for First-Class Mail, First-Class Package Service, and Priority Mail pieces with the ACS participant code for an authorized ACS participant and a valid ancillary service endorsement. Mailers participating in OneCode ACS under 4.2.6 may print an Intelligent Mail barcode on First-Class Mail automation letters instead of a participant code and endorsement. The only endorsements permitted on First-Class Mail, First-Class Package Service and Priority Mail valid ACS pieces are “Address Service Requested”, “Change Service Requested” or “Electronic Service Requested” subject to the following:

* * * * *

[Revise the title of Exhibit 1.5.1 as follows:]

Exhibit 1.5.1 Treatment of Undeliverable First-Class Mail, First-Class Package Service and Priority Mail

* * * * *

[In the table for Change Service Requested, in the third column, last row, revise item (1)(b) as follows:]

(b) First-Class Mail and First-Class Package Service (excluding hazardous materials).

* * * * *

1.8 Returning Mail

* * * * *

[Revise the title and text of 1.8.3 as follows:]

1.8.3 Express Mail, Priority Mail, First-Class Mail, and First-Class Package Service

Mailpieces sent as Express Mail, Priority Mail, First-Class Mail, or First-Class Package Service that cannot be delivered as addressed or forwarded to a new address, unless otherwise requested by the sender, are returned to the sender at no additional charge. Excluding pieces containing live animals, the following are disposed of by the USPS:

a. Priority Mail pieces with a valid Address Change Service (ACS) participant code marked “Perishable” and endorsed “Change Service Requested.”

b. First-Class Mail or First-Class Package Service pieces with a valid ACS participant code and endorsed “Change Service Requested.”

* * * * *

1.9 Dead Mail

1.9.1 Basic Information

[Revise the introductory text of 1.9.1 as follows:]

Dead mail is matter deposited in the mail that is undeliverable and cannot be returned to the sender. A reasonable effort is made to match articles found loose in the mail with the envelope or wrapper and to return or forward the articles. The disposition of dead mail items is as follows:

* * * * *

[Revise the text of 1.91e as follows:]

e. Except for unendorsed Standard Mail, undeliverable Standard Mail and Package Services, and insured First-Class Mail or First-Class Package Service pieces containing Standard Mail or Package Services enclosures, that cannot be returned because of an incorrect, incomplete, illegible, or missing return address is opened and examined to identify the sender or addressee.

* * * * *

2.0 Forwarding

* * * * *

2.2 Forwardable Mail

* * * * *

2.2.3 Discontinued Post Office

[Revise the text of 2.2.3 as follows:]

All Express Mail, Priority Mail, First-Class Mail, First-Class Package Service, Periodicals, and Package Services pieces addressed to a discontinued Post Office may be forwarded without added charge to a Post Office that the addressee designates as more convenient than the office to which the USPS ordered the mail sent.

2.2.4 Rural Delivery

[Revise the text of 2.2.4 as follows:]

When rural delivery service is established or changed, a customer of any office receiving mail from the rural carrier of another office may have all Express Mail, Priority Mail, First-Class Mail, First-Class Package Service, Periodicals, and Package Services pieces forwarded to the latter office for delivery without added charge, if the customer files a written request with the postmaster at the former office.

* * * * *

2.2.6 Mail for Military Personnel

[Revise the first sentence of 2.2.6 as follows:]

All Express Mail, First-Class Mail, First-Class Package Service, Periodicals, and Package Services mailpieces addressed to persons in the U.S. Armed Forces (including civilian employees) serving where U.S. mail service operates is forwarded at no added charge when the change of address is caused by official orders. * * *

* * * * *

2.3 Postage for Forwarding

* * * * *

[Revise the title and text of 2.3.3 as follows:]

2.3.3 Priority Mail, First-Class Mail, and First-Class Package Service

Priority Mail, First-Class Mail (including postcards), and First-Class Package Service mailpieces are forwarded without charge when postage is fully prepaid by the sender.

* * * * *

3.0 Premium Forwarding Service

* * * * *

3.3 Preparation

* * * * *

3.3.3 Mailpieces Requiring a Scan or Signature at Delivery

[Revise the introductory text of 3.3.3 and item 3.3.3a as follows:]

Mailpieces requiring a scan or signature at delivery, such as Express Mail or numbered insured mail, are scanned, and then rerouted immediately and separately to the temporary address, subject to the following:

a. Express Mail, Priority Mail, First-Class Mail and First-Class Package Service mailpieces are rerouted at no additional charge.

* * * * *

[Revise the title and text of 3.3.5 as follows:]

3.3.5 First-Class Mail, First-Class Package Service, and Periodicals Parcels Not Requiring a Scan or Signature at Delivery

First-Class Mail, First-Class Package Service, and Periodicals parcels not requiring a scan or signature at delivery and that do not fit into the weekly Priority Mail shipment are separately rerouted at no additional charge.

* * * * *

3.4 Enter and Deposit

3.4.1 Mailpieces Arriving Postage Due at the Primary Address

* * * Mailpieces arriving postage due are rerouted as follows:

[Revise 3.4.1a as follows:]

a. Postage due First-Class Mail and First-Class Package Service mailpieces are rerouted as First-Class Mail or First-Class Package Service postage due. Only the original postage due amount is collected. There is no additional charge for rerouting the mailpiece.

* * * * *

4.0 Address Correction Services

4.1 Address Correction Service

* * * * *

4.1.5 Other Classes

[Revise the text of 4.1.5 as follows:]

When possible, “on-piece” address correction is provided for Express Mail, Priority Mail, First-Class Mail, First-Class Package Service, Standard Mail, Package Services, and Parcel Select pieces. If the piece cannot be forwarded, it is returned with new address information or reason for nondelivery attached. When separate corrections are necessary, Form 3547 is mailed to the sender with the address correction fee charged and the mail is forwarded. This service is not available for mailpieces to be delivered by military personnel at any military installation, including APOs and FPOs.

* * * * *

5.0 Recall of Mail

5.1 Who May Recall Mail

* * * * *

5.1.3 Expenses and Postage

[Revise the first sentence of 5.1.3 as follows:]

The mailer must pay all expenses of recalling mail (including return postage for other than First-Class Mail or First-Class Package Service mailpieces). * * *

* * * * *

600 Basic Standards for All Mailing Services

* * * * *

602 Addressing

1.0 Elements of Addressing

* * * * *

1.3 Address Elements

[Revise the introductory text of 1.3 as follows:]

All mail not bearing a simplified address must bear a delivery address that contains at least the following elements in this order from the top line:

* * * * *

[Revise items 1.3e and 1.3e1 as follows:]

e. ZIP Code where required:

1. ZIP Codes are required on Express Mail, commercial First-Class Mail, First-Class Package Service, Periodicals, Standard Mail, Package Services and Parcel Select mailpieces, all mail sent to military addresses within the United States and to APO and FPO addresses, official mail, Business Reply Mail, and merchandise return service mail.

* * * * *

1.9 Additional Addressing Standards by Class

[Revise the text of 1.9 as follows:]

Basic addressing standards are in the Prices and Eligibility section for each class of mail.

* * * * *

604 Postage Payment Methods

* * * * *

4.0 Postage Meters and PC Postage Products (Postage Evidencing Systems)

4.1 Basic Information

* * * * *

4.1.5 Authorized Classes of Mail

[Revise the text of 4.1.5 as follows:]

Mailers may use postage evidencing systems to affix or apply indicia on any class of mail except First-Class Package Service commercial plus parcels, Periodicals, and Bound Printed Matter.

* * * * *

4.5 Mailings

4.5.1 Mailing Date Format

* * * The mailing date format used in the indicia is also subject to the following conditions.

a. Complete Date. Mailers must use a complete date for the following:

[Revise 4.5.1a1 as follows:]

1. All Express Mail, Priority Mail, First-Class Mail, and First-Class Package Service pieces.

* * * * *

5.0 Permit Imprint (Indicia)

5.1 General Standards

5.1.1 Definition

[Revise the text of 5.1.1 as follows:]

A mailer may be authorized to mail material without affixing postage when payment is made at the time of mailing from a permit imprint advance deposit account established with USPS. This payment method may be used for postage and extra service fees for Express Mail (“eVS” only), Priority Mail, First-Class Mail, First-Class Package Service, Standard Mail, Package Services, and Parcel Select mailpieces. This method is not available for Periodicals.

* * * * *

5.3 Indicia, Design, Placement, and Content

* * * * *

[Revise the title and the first sentence of 5.3.6 as follows:]

5.3.6 Express Mail, Priority Mail, Critical Mail, First-Class Mail and First-Class Package Service Format

A permit imprint indicia on Express Mail, Priority Mail, Critical Mail, First-Class Mail, or First-Class Package Service mailpieces must show “Express Mail,” “Priority Mail” (or “Priority”), “Critical Mail,” “First-Class Mail,” or “First-Class Package” (or “First-Class Pkg”) as applicable; “U.S. Postage Paid”; city and state; and permit number. * * *

* * * * *

700 Special Standards

* * * * *

705 Advance Preparation and Special Postage Payment Systems

* * * * *

8.0 Preparing Pallets

* * * * *

8.6 Pallet Placards

* * * * *

8.6.5 Line 2 (Content Line)

Line 2 (content line) must meet these standards:

* * * * *

[Revise the table in 8.6.5 by adding a new 7th row (between “First-Class Mail” and “Flats” with “First-Class Package Service” in the Content Type column and “FC PKG” in the Code column as follows:]

Content type | Code
* * * * *
First-Class Package Service | FC PKG.

* * * * *

We will publish an appropriate amendment to 39 CFR Part 111 to reflect these changes.

Stanley F. Mires,
Chief Counsel, Legislative.

[FR Doc. 2011-21028 Filed 8-17-11; 8:45 am]

BILLING CODE 7710-P